DEPARTMENT OF ENERGY

Federal Energy Regulatory Commission

[Project Nos. 2341-033 and 2350-025]

Georgia Power Company; Notice of Availability of Environmental Assessment

In accordance with the National Environmental Policy Act of 1969 and the Federal Energy Regulatory Commission's (Commission) regulations, 18 CFR part 380, the Office of Energy Projects has reviewed the application to surrender, decommission, and remove the Langdale Hydroelectric Project No. 2341 and the Riverview Hydroelectric Project No. 2350 (projects). The projects are located on the Chattahoochee River in Chambers County, Alabama and Harris County, Georgia. Commission staff has prepared an Environmental Assessment (EA) for the proposed action.

The EA contains the staff's analysis of the potential environmental effects of the proposed action and concludes that surrendering, decommissioning, and removing the projects, with appropriate environmental protective measures, would not constitute a major federal action that would significantly affect the quality of the human environment.

The Commission provides all interested persons with an opportunity to view and/or print the EA via the internet through the Commission's Home Page (http://www.ferc.gov/), using the “eLibrary” link. Enter either docket number (P-2341 or P-2350), to access the document. For assistance, contact FERC Online Support at FERCOnlineSupport@ferc.gov, or at (866) 208-3676 (toll-free), or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

Any comments must be filed by April 29, 2024.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-2341-033 or P-2350-025.

For further information, contact Mark Ivy at 202-502-6156 or mark.ivy@ferc.gov.

Dated: March 29, 2024.
Debbie-Anne A. Reese,
Acting Secretary.

[FR Doc. 2024-07146 Filed 4-3-24; 8:45 am]

BILLING CODE 6717-01-P